DEPARTMENT OF DEFENSE

DEPARTMENT OF VETERANS AFFAIRS

38 CFR Part 21

RIN 2900-AJ87

Veterans Education: Increased Allowances for the Educational Test Program

Correction

In rule document 00-6216 beginning on page 13693 in the issue of Tuesday, March 14, 2000, make the following corrections:

§21.5820 [Corrected]

1. On page 13694, in the first column, in §21.5820(b)(2)(ii)(C), in the fourth line, the ``4'' should read ``4¢''.

2. On the same page, in the same column, in the same section, in the fifth line, the ``2'' should read ``2¢''.

[FR Doc. C0-6216 Filed 4-5-00; 8:45 am]

BILLING CODE 1505-01-D

DEPARTMENT OF THE TREASURY

Customs Service

[T.D. 00-18]

Geographic Boundaries of Customs Brokerage, Cartage, and Lighterage Districts

Correction

In the issue of Thursday, March 23, 2000, on page 15687, in the correction of notice document number 00-6263, in the third column, in the “Ports of entry” column, under the heading “Missouri”, “St. Wichita” should read,ÿ7Eÿ7E“Wichita, KS”.

[FR Doc. C0-6263A Filed 4-5-00; 8:45 am]

BILLING CODE 1505-01-D